DEPARTMENT OF DEFENSE

Department of the Navy

Notice of Public Meetings for the Draft Amended Analysis to the Final Environmental Impact Statement for EA-18G “Growler” Airfield Operations at Naval Air Station Whidbey Island Complex

AGENCY: Department of the Navy (DoN), Department of Defense (DoD).

ACTION: Notice.

SUMMARY: The Department of the Navy has prepared a Draft Amended Analysis to the Final Environmental Impact Statement for EA-18G Growler Airfield Operations at Naval Air Station Whidbey Island Complex (2018) (Record of Decision—March 14, 2019), pursuant to the National Environmental Policy Act and court orders issued by the U.S. District Court for the Western District of Washington.

DATES: A 45-day public comment period begins on March 14, 2025, and ends April 28, 2025. The public can submit comments during the Draft Amended Analysis public review and comment period at one of the in-person public meetings, online at the project website, or by U.S. mail. The deadline for comments on the Draft Amended Analysis is April 28, 2025. All comments must be submitted electronically or postmarked by 11:59 p.m. Pacific Daylight time (PDT) on April 28, 2025.

A paper copy of the Draft Amended Analysis may be reviewed at 22 public libraries in the northern Puget Sound region. The full list of and addresses for each of the libraries may be found at the project website.

The Navy will be hosting two in-person public meetings in the form of an open-house to inform the public about the contents of the Amended Analysis, answer questions, and provide the opportunity to submit written comments.

The in-person public meetings are scheduled as follows:

1. Tuesday, April 1, 2025, 4:00 p.m. to 6:00 p.m. PDT, Oak Harbor Elks Lodge, Grande Hall, 155 NE Ernst Street, Oak Harbor, WA 98277.

2. Wednesday, April 2, 2025, 4:00 p.m. to 6:00 p.m. PDT, Whidbey Island Nordic Lodge, 63 Jacobs Road, Coupeville, WA 98239.

Additionally, the Navy will host one virtual meeting featuring an informational presentation and will address questions submitted in advance. Advance questions can be submitted to the Navy for consideration via the following email address, growler_amended_analysis@us.navy.mil. The deadline to submit questions is 11:59 p.m. PDT on Friday, March 21, 2025.

The virtual meeting will be broadcast on the project website on April 03, 2025 at 7:00 p.m. PDT. At this virtual meeting, the Navy will provide information and answer advance submitted questions until 8:00 p.m. PDT. After this initial broadcast, a recording of the virtual meeting will be made available on the project website www.nepa.navy.mil/growler/.

ADDRESSES: Comments on the Draft Amended Analysis may be provided at the in-person public meetings, submitted electronically through the project website: www.nepa.navy.mil/growler/, or by mail to: Naval Facilities Engineering Systems Command Atlantic; Attention: Code EV21JB (Growler Project Manager); 6506 Hampton Boulevard, Norfolk, VA 23508-1278.

FOR FURTHER INFORMATION CONTACT: U.S. Fleet Forces Command, 1562 Mitscher Avenue, Suite 250, Norfolk, VA 23551-2487, Attention: Mr. Theodore Brown, Installations and Environment Public Affairs Officer, 757-836-4427, theodore.c.brown4.civ@us.navy.mil, or visit the project website www.nepa.navy.mil/growler/.

SUPPLEMENTARY INFORMATION: In July 2019, the Navy defended lawsuits in the U.S. District Court for the Western District of Washington challenging the Navy's 2018 Final Environmental Impact Statement (EIS) and 2019 Record of Decision (ROD) for EA-18G “Growler” Airfield Operations at Naval Air Station (NAS) Whidbey Island Complex. These cases were later consolidated.

In 2022, the Court found the Navy's EIS and ROD violated the National Environmental Policy Act (NEPA) by “failing to disclose the basis for greenhouse gas emissions calculations, failing to quantify the impact of increased operations on classroom learning, failing to take a hard look at species-specific impacts on birds, and failing to give detailed consideration to the El Centro, California, alternative.” All other claims were dismissed with prejudice. Therefore, the public meetings for the Draft Amended Analysis will be limited to these four areas identified by the Court.

Notice of the availability of the Draft Amended Analysis was distributed to federal, state, and local agencies, elected officials, local tribes (Jamestown S'Klallam Tribe, Lummi Tribe of the Lummi Reservation, Samish Indian Nation, Stillaguamish Tribe of Indians of Washington, Suquamish Indian Tribe of the Port Madison Reservation, Swinomish Indian Tribal Community, Tulalip Tribes of Washington, Upper Skagit Indian Tribe, and organizations.

Dated: March 11, 2025.
R.A. Kennedy,
Lieutenant Commander, Judge Advocate General's Corps, U.S. Navy, Federal Register Liaison Officer.

[FR Doc. 2025-04111 Filed 3-13-25; 8:45 am]

BILLING CODE 3810-FF-P